ENVIRONMENTAL PROTECTION AGENCY

[ER-FRL-8987-5]

Environmental Impact Statements; Notice of Availability

Responsible Agency: Office of Federal Activities, General Information (202) 564-1399 or http://www.epa.gov/compliance/nepa/.

Weekly receipt of Environmental Impact Statements

Filed 01/11/2010 through 01/15/2010

Pursuant to 40 CFR 1506.9.

Notice: In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

EIS No. 20100005, Draft Supplement, FHWA, WI, WI-23 Highway Project, Transportation Improve between Fond du Lac and Plymouth, Fond du Lac and Sheboygan Counties, WI, Comment Period Ends: 03/12/2010, Contact: David D. Platz, P.E., 608-829-7500.

EIS No. 20100006, Final EIS, USAF, 00, Rogue River-Siskiyou National Forest, Motorized Vehicle Use, To Enact the Travel Management Rule, Implementation, Douglas, Klamath, Jackson, Curry, Coos and Josephine Counties, OR and Del Norte and Siskiyou Counties, CA, Wait Period Ends: 02/22/2010, Contact: Steve Johnson, 541-552-2900.

EIS No. 20100007, Final EIS, NOAA, 00, Amendment 3 to the Northeast Skate Complex Fishery Management Plan, Implementation of New Management Measures to Rebuild Overfished Skate Stocks, End Overfishing of Skate Fisheries, Gulf of Maine (GOM), Georges Bank (GB), South New England and Mid-Atlantic Regions, Wait Period Ends: 02/22/2010, Contact: Patricia A. Kurkul, 978-281-9250.

EIS No. 20100008, Draft EIS, GSA, 00, International Falls Land Port of Entry Improvements Study, Proposes to Replace the Existing Land Port of Entry, Minnesota along the US and Canada Border, Comment Period Ends: 03/08/2010, Contact: Glen Wittman, 312-353-6871.

EIS No. 20100009, Draft Supplement, BLM, NV, Upper Las Vegas Wash Conservation Transfer Area (CTA), Propose to Establish a Final Boundary, Clark County, NV, Comment Period Ends: 03/22/2010, Contact: Gayle Marrs-Smith, 702-515-5156.

EIS No. 20100010, Draft EIS, USACE, NC, Surf City and North Topsail Beach Project, To Evaluate Coastal Storm Damage Reduction, Topsail Island, Pender and Onslow Counties, NC, Comment Period Ends: 03/08/2010, Contact: Doug Piatkowski, 910-251-4908.

EIS No. 20100011, Final EIS, USFS, CA, Eddy Gulch Late-Successional Reserve Fuels/Habitat Protection Project, To Protect Late-Successional Habitat used by the Northern Spotted Owl and Other Late-Successional-Dependent Species, Salmon River and Scott River Ranger District, Klamath National Forest, Siskiyou County, CA, Wait Period Ends: 02/22/2010, Contact: Connie Hendryx, 530-468-1281.

EIS No. 20100012, Final Supplement, USFS, CA, Pilgrim Vegetation Management Project, Updated Information to Address and Respond to the Specific Issues Identified in the Court Ruling. Implementation, Shasta-Trinity National Forest, Siskiyou County, CA, Wait Period Ends: 02/22/2010, Contact: Emelia H. Barnum, 530-926-9600.

EIS No. 20100013, Draft EIS, BOP, 00, District of Columbia—III Project, Proposal for Contractor-Owned/Operated Facility to House Felons and Criminal Aliens, Possible Sites: Winton Site, Hertford County, NC and Princess Anne Site, Somerset County, MD, Comment Period Ends: 03/08/2010, Contact: Richard Cohn, 202-514-6470.

EIS No. 20100014, Draft Supplement, FHWA, WA, WA-520, I-5 to Medina Bridge Replacement and HOV Project, To Improve Mobility for People and Goods across Lake Washington, in Seattle, King County, WA, Comment Period Ends: 03/08/2010, Contact: Paul Krueger, 206-381-6432.

EIS No. 20100015, Final EIS, USA, 00, PROGRAMMATIC—Louisiana Coastal Area (LCA) Beneficial Use of Dredged Material (BUDMAT) Program Study, To Establish the Structure and Management Architecture of the BUDMAT Program, Implementation, MS, TX and LA, Wait Period Ends: 02/22/2010, Contact: Elizabeth McCasland, 504-862-2021.

EIS No. 20100016, Draft EIS, USN, CA, Silver Strand Training Complex (SSTC) Project, Proposed Naval Training Activities, Cities of Coronado and Imperial Beach, San Diego County, CA, Comment Period Ends: 03/08/2010, Contact: Kent Randall, 619-845-9339.

Dated: January 19, 2010.
Robert W. Hargrove,
Director, NEPA Compliance Division, Office of Federal Activities.

[FR Doc. 2010-1195 Filed 1-21-10; 8:45 am]

BILLING CODE 6560-50-P